DEPARTMENT OF COMMERCE

International Trade Administration

[A-570-803]

Heavy Forged Hand Tools, Finished or Unfinished, With or Without Handles, From the People's Republic of China: Extension of Time Limit for Final Results of Antidumping Duty Administrative Reviews

AGENCY: Import Administration, International Trade Administration, Department of Commerce.

EFFECTIVE DATE: February 21, 2001.

FOR FURTHER INFORMATION CONTACT: Jeff Pedersen at (202) 482-4195 or Ron Trentham at (202) 482-6320, Office of AD/CVD Enforcement, Office 4, Group II, Import Administration, International Trade Administration, U.S. Department of Commerce, 14th Street and Constitution Ave., NW., Washington, DC 20230.

Time Limits

Statutory Time Limits

Section 751(a)(3)(A) of the Tariff Act of 1930, as amended (the Act) requires the Department of Commerce (the Department) to make a final determination within 120 days after the date on which the preliminary determination is published. However, if it is not practicable to complete the review within this time period, section 751(a)(3)(A) of the Act allows the Department to extend the time limit for the final results to 180 days (or 300 days if the Department does not extend the time limit for the preliminary results) from the date of publication of the preliminary results.

Background

On November 7, 2000, the Department published in the Federal Register the preliminary results of the 1999-2000 administrative reviews of the antidumping duty orders on heavy forged hand tools from the People's Republic of China. See Heavy Forged Hand Tools, Finished or Unfinished, With or Without Handles, From the People's Republic of China; Preliminary Results and Preliminary Partial Recision of Antidumping Duty Administrative Reviews and Notice of Intent Not to Revoke in Part (65, FR 66691). The Department did not extend the time limit for the preliminary results of these reviews.

Extension of Time Limit for Final Results of Reviews

We determine that it is not practicable to complete the final results of these reviews within the original time limit. Therefore the Department is extending the time limit for completion of the final results until no later than September 3, 2001. See Decision Memorandum from Thomas F. Futtner to Holly A. Kuga, dated concurrently with this notice, which is on file in the Central Records Unit, Room B-099 of the main Commerce building.

This extension is in accordance with section 751(a)(3)(A) of the Act.

Dated: February 8, 2001.
Holly A. Kuga,
Acting Deputy Assistant Secretary for Import Administration.

[FR Doc. 01-4288 Filed 2-20-01; 8:45 am]

BILLING CODE 3510-DS-P